FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 010071-043.

Title: Cruise Lines International Association Agreement.

Parties: Acromas Shipping, Ltd./Saga Shipping; Aida Cruises; AMA Waterways; American Cruise Lines, Inc.; Aqua Expeditions Pte. Ltd.; Australian Pacific Touring Pty Ltd.; Avalon Waterways; Azamara Cruises; Carnival Cruise Lines; CDF Croisieres de France; Celebrity Cruises, Inc.; Celestyal Cruises; Costa Cruise Lines; Compagnie Du Ponant; Croisieurope; Cruise & Maritime Voyages; Crystal Cruises; Cunard Line; Disney Cruise Line; Emerald Waterways; Evergreen Tours; Fred.Olsen Cruise Lines Ltd.; Hapag-Lloyd Kreuzfahrten Gmbh; Hebridean Island Cruises; Holland America Line; Hurtigruten, Inc.; Island Cruises; Lindblad Expeditions Pty Ltd.; Luftner Cruises; Mekong Waterways; MSC Cruises; NCL Corporation; Oceania Cruises; P & O Cruises; P & O Cruises Australia; Paul Gauguin Cruises; Pearl Seas Cruises; Phoenix Reisen Gmbh; Princess Cruises; Pullmantur Cruises Ship Management Ltd.; Regent Seven Seas Cruises; Riviera Tours Ltd.; Royal Caribbean International; Scenic Tours UK Ltd.; Seabourn Cruise Line; SeaDream Yacht Club; Shearings Holidays Ltd.; Silversea Cruises, Ltd.; Star Cruises (HK) Limited; St. Helena Line/Andrew Weir Shipping Ltd.; Swan Hellenic; Tauck River Cruising; The River Cruise Line; Thomson Cruises; Travelmarvel; Tui Cruises Gmbh; Un-Cruises Adventures; Uniworld River Cruises, Inc.; Venice Simplon-Orient-Express Ltd./Belmond; Voyages of Discovery; Voyages to Antiquity (UK) Ltd.; and Windstar Cruises.

Filing Party: Andre Picciurro, Esq. Kaye, Rose & Partners, LLP; Emerald Plaza, 402 West Broadway, Suite 1300; San Diego, CA 92101-3542

Synopsis: The Amendment would update the parties and amend Appendix B to address membership criteria for startup cruise lines.

Agreement No.: 010979-062.

Title: Caribbean Shipowners Association.

Parties: CMA CGM, S.A.; Crowley Caribbean Services LLC; Hybur Ltd.; King Ocean Services Limited; Seaboard Marine, Ltd.; Seafreight Line, Ltd.; Tropical Shipping and Construction Company Limited; and Zim Integrated Shipping Services, Ltd.

Filing Party: Wayne R. Rohde, Esq.; Cozen O'Connor, 1627 I Street NW., Washington, DC 20006.

Synopsis: The amendment would add inland points in Mexico to the geographic scope of the agreement. The parties have requested expedited review.

Agreement No.: 011679-014.

Title: ASF/SERC Agreement.

Parties: American President Lines, Ltd./APL Co. Pte Ltd.; ANL Singapore Pte Ltd.; China Shipping (Group) Company/China Shipping Container Lines, Co. Ltd.; COSCO Container Lines Company, Ltd.; Evergreen Line Joint Service; Hanjin Shipping Co., Ltd.; Hyundai Merchant Marine Co., Ltd.; Kawasaki Kisen Kaisha, Ltd.; Mitsui O.S.K. Lines, Ltd.; Nippon Yusen Kaisha; Orient Overseas Container Line Ltd.; Wan Hai Lines Ltd.; and Yang Ming Marine Transport Corp.

Filing Party: Wayne Rohde, Esq.; Cozen O'Connor; 1627 I Street NW; Suite 1100; Washington, DC 20006.

Synopsis: The amendment would delete certain unused authorities of the agreement, and clarify remaining authorities.

Agreement No.: 012352.

Title: Network Shipping Ltd./Trans Global Shipping N.V. Space Charter and Sailing Agreement.

Parties: Network Shipping Ltd. and Trans Global Shipping N.V.

Filing Party: Antonio Fernandez; Network Shipping; 241 Sevilla Ave.; Coral Cables, FL 33134.

Synopsis: The agreement authorizes Network Shipping to charter space to Trans Global Shipping N.V. for the carriage of empty refrigerated containers between Port Hueneme, CA and ports in Ecuador, and between Port Gloucester, NJ and Costa Rica.

Agreement No.: 012353.

Title: Crowley/Marinex Space Charter Agreement.

Parties: Crowley Caribbean Services, LLC and Marinex Cargo Line, Inc.

Filing Party: Wayne R. Rohde, Esq.; Cozen O'Connor; 1627 I Street NW., Suite 1100; Washington, DC 20036.

Synopsis: The agreement authorizes Marinex to charter space to Crowley in the trade between Puerto Rico and St. Maarten.

By Order of the Federal Maritime Commission.
Dated: July 31, 2015.
Rachel E. Dickon,
Assistant Secretary.

[FR Doc. 2015-19258 Filed 8-4-15; 8:45 am]

BILLING CODE 6731-AA-P